DEPARTMENT OF ENERGY

Federal Energy Regulatory Commission

[Docket No. RP03-95-001]

PG&E Gas Transmission, Northwest Corporation; Notice of Tariff Filing

March 25, 2003.

Take notice that on March 20, 2003, PG&E Gas Transmission, Northwest Corporation (GTN) tendered for filing as part of its FERC Gas Tariff, Second Revised Volume No. 1, Third Revised Sheet No. 6, with an effective date of January 1, 2003.

GTN states that the filing is being made to reflect in its tariff the incremental fuel surcharge that was approved by Commission order issued March 4, 2003 in Docket No. RP02-331-002.

GTN further states that a copy of this filing has been served on GTN's jurisdictional customers and interested state regulatory agencies.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 1, 2003.

Magalie R. Salas,
Secretary.

[FR Doc. 03-7777 Filed 3-31-03; 8:45 am]

BILLING CODE 6717-01-P